ENVIRONMENTAL PROTECTION AGENCY

[FRL-9937-19-OECA]

National Environmental Justice Advisory Council; Notification of Public Teleconference Meetings and Public Comment

AGENCY: Environmental Protection Agency (EPA).

ACTION: Notice.

SUMMARY: Pursuant to the Federal Advisory Committee Act (FACA), Public Law 92-463, the U.S. Environmental Protection Agency (EPA) hereby provides notice that the National Environmental Justice Advisory Council (NEJAC) will host a two (2) public teleconference meetings on Wednesday, December 2, 2015, from 12:30 p.m. to 2:30 p.m. Eastern Time and Tuesday, December 15, 2015, from 3:30 p.m. to 5:30 p.m. Eastern Time. Items to be discussed by NEJAC over these coming meetings include respectively: U.S. Housing and Urban Development Final Rule on Affirmatively Furthering Fair Housing and Assessment Tool; and Chemical Plant Safety and Community Revitalization: 20 Years of the Brownfields Program.

There will be an opportunity for the public to comment on Wednesday, December 2, 2015, from 1:30 p.m. to 2:30 p.m. and Tuesday, December 15, 2015 from 4:30 p.m. to 5:30 p.m. Members of the public are encouraged to provide comments relevant to the topics of the meeting.

For additional information about registering to attend the meeting or to provide public comment, please see “REGISTRATION” under SUPPLEMENTARY INFORMATION.

DATES: The NEJAC teleconference meeting on Wednesday, December 2, 2015, will begin promptly at 12:30 p.m. Eastern Time. The NEJAC teleconference meeting on Tuesday, December 15, 2015, will begin promptly at 3:30 p.m. Eastern Time.

FOR FURTHER INFORMATION CONTACT: Questions or correspondence concerning the teleconference meeting should be directed to Karen L. Martin, U.S. Environmental Protection Agency, by mail at 1200 Pennsylvania Avenue NW. (MC2201A), Washington, DC 20460; by telephone at 202-564-0203; via email at martin.karenl@epa.gov; or by fax at 202-564-1624. Additional information about the NEJAC is available at: www.epa.gov/environmentaljustice/nejac.

SUPPLEMENTARY INFORMATION:

Registration

Registrations for the December 2, 2015, meeting will be processed at http://nejac-teleconfence-december-2-2015.eventbrite.com. When registering, please provide your name, organization, city and state, email address, and telephone number for follow up. Please also state whether you would like to be put on the list to provide public comment, and whether you are submitting written comments before the Wednesday, November 25, 2015, noon deadline.

Registrations for the December 15, 2015, meeting will be processed at http://nejac-teleconference-december-15-2015.eventbrite.com. When registering, please provide your name, organization, city and state, email address, and telephone number for follow up. Please also state whether you would like to be put on the list to provide public comment, and whether you are submitting written comments before the Thursday, December 11, 2015, noon deadline.

Due to a limited number of telephone lines, attendance will be on a first-come, first served basis. Pre-registration is required.

1. Registration for the December 2, 2015, teleconference meeting closes at Noon, Eastern Time on Wednesday, November 25, 2015. The deadline to sign up to speak during the public comment period, or to submit written public comments, is also Noon, Wednesday, November 25, 2015.

2. Registration for the December 15, 2015, teleconference meeting closes at Noon, Eastern Time on Thursday, December 10, 2015. The deadline to sign up to speak during the public comment period, or to submit written public comments, is also Noon, Thursday, December 10, 2015.

The Charter of the NEJAC states that the advisory committee “will provide independent advice and recommendations to the Administrator about broad, crosscutting issues related to environmental justice. The NEJAC's efforts will include evaluation of a broad range of strategic, scientific, technological, regulatory, community engagement and economic issues related to environmental justice.”

A. Public Comment

Individuals or groups making remarks during the public comment period will be limited to seven (7) minutes. To accommodate the number of people who want to address the NEJAC, only one representative of a particular community, organization, or group will be allowed to speak. Written comments can also be submitted for the record. The suggested format for individuals providing public comments is as follows: Name of speaker; name of organization/community; city and state; and email address; brief description of the concern, and what you want the NEJAC to advise EPA to do. Written comments received by registration deadline, will be included in the materials distributed to the NEJAC prior to the teleconference. Written comments received after that time will be provided to the NEJAC as time allows. All written comments should be sent to Karen L. Martin, EPA, via email at martin.karenl@epa.gov.

B. Information About Services for Individuals With Disabilities or Requiring English Language Translation Assistance

For information about access or services for individuals requiring assistance, please contact Karen L. Martin, at (202) 564-0203 or via email at martin.karenl@epa.gov. To request special accommodations for a disability or other assistance, please submit your request at least four working days prior to the meeting, to give EPA sufficient time to process your request. All requests should be sent to the address, email, or phone/fax number listed in the FOR FURTHER INFORMATION CONTACT section.

Dated: November 10, 2015.
Matthew Tejada,
Designated Federal Officer, Office of Environmental Justice, U.S. EPA.

[FR Doc. 2015-29349 Filed 11-16-15; 8:45 am]

BILLING CODE 6560-50-P